FEDERAL COMMUNICATIONS COMMISSION

47 CFR Parts 27, 74, 78, and 101

[WT Docket No. 07-195; WT Docket No. 04-356; DA 08-1614]

Service Rules for Advanced Wireless Services in the 1915-1920 MHz, 1995-2000 MHz, 2155-2175 MHz, and 2175-2180 MHz Bands

AGENCY: Federal Communications Commission.

ACTION: Proposed rule; extension of comment period.

SUMMARY: In this document, the Commission announces an extension of the dates for filing supplemental comments and reply comments in response to the rules proposed in the Further Notice of Proposed Rulemaking (FNPRM) that was adopted by the Commission on June 20, 2008.

DATES: Comments must be filed on or before July 25, 2008, and reply comments must be filed on or before August 11, 2008.

ADDRESSES: You may submit comments, identified by WT Docket Nos. 04-356 and 07-195, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Peter Daronco, Esq., or Paul Malmud, Esq., at 202-418-2486.

SUPPLEMENTARY INFORMATION: This is a summary of the Commission's Order, released July 8, 2008. The complete text of this document, and related Commission documents, is available for inspection and copying during normal business hours in the FCC Reference Center (Room CY-A257), 445 12th Street, SW., Washington, DC 20554. The complete text of the Order and related Commission documents may be purchased from the Commission's copy contractor, Best Copy and Printing, Inc., 445 12th Street, SW., Room CY-B402, Washington, DC 20554, telephone 202-488-5300, facsimile 202-488-5563, or you may contact BCPI at its Web site http://www.BCPIWEB.com. When ordering documents from BCPI, please provide the appropriate FCC document number, for example, FCC 07-38. The Order is also available on the Commission's Web site: http://www.wireless.fcc.gov/index.htm?job=headlines.

• Pursuant to sections 1.415 and 1.419 of the Commission's rules, 47 CFR 1.415, 1.419, interested parties may file comments and reply comments on or before the dates indicated. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Summary of Order

1. This Order grants in part a request to modify the deadlines for filing supplemental comments and reply comments in response to the FNPRM that was published at 73 FR 35995, June 25, 2008. Comments are now due on July 25, 2008, and reply comments are due on August 11, 2008.

2. On July 1, 2008, T-Mobile USA, Inc. (T-Mobile) filed a request (Request) to modify the pleading schedule for the FNPRM. T-Mobile argues that the comment deadline should be extended by 90 days, to October 7, 2008, in order for the Commission to institute supervised testing to determine the extent of interference concerns raised by the proposal in the FNPRM. In the alternative, T-Mobile requests that the Commission extend the comment deadline by at least 30 days in order to allow T-Mobile to have sufficient time to submit a comprehensive analysis of its own ongoing tests into the record. In support of its extension request, T-Mobile avers that the abbreviated comment cycle provides insufficient time to assess complex technical issues to address fully—using empirical data—the possible interference concerns raised by allowing TDD transmissions in the AWS-3 band. T-Mobile asserts that the Commission must allow additional time to develop a proper record on this issue through empirical testing and that it would be “arbitrary and capricious” to do otherwise. It claims that the comment period is shorter than what is typically recognized to allow informed comment and asserts that the minimum appropriate comment window is 30 days. While T-Mobile requests at least an additional 30 days to “allow interested parties to conduct their own testing, submit data, and evaluate the test results of other parties,” it prefers that the Commission extend the comment deadline by 90 days and conduct independent testing on potential interference issues.

3. AT&T, United States Cellular, Ericsson and Sony Ericsson, Motorola, PCIA, and Nokia filed comments in support of T-Mobile's request for an extension of the comment period, contending that additional time to provide comments would permit the inclusion in the record of technical analyses that will allow the public and the Commission to better evaluate the interference issues posed by the proposed rules.¹ The Rural Telecommunications Group, Inc., and the National Telecommunications Cooperative Association (collectively the “Rural Advocates”), aver that additional time is necessary to allow small and rural companies adequate opportunity to assess the impact of the Commission's proposal on the deployment of broadband wireless services in rural areas. M2Z Networks, Inc. (M2Z) filed an opposition to T-Mobile's request for an extension of the comment period, asserting that the Commission already has an extensive record on interference issues in the above-captioned proceeding.

¹ In a July 3 ex parte filing, CTIA also expressed its support for an extension of time.

4. Under section 1.46(a) of the Commission's rules, it is the policy of the Commission that extensions of time shall not be routinely granted.² Nevertheless, in this instance, we find that providing additional time for filing comments will serve the public interest by ensuring the development of a more complete and well-developed record in response to the FNPRM. We note that parties have had notice of the possibility that TDD operations would be permitted in the AWS-3 band since at least the issuance of the AWS-3 Notice of Proposed Rulemaking in WT Docket No. 07-195 (AWS-3 NPRM) nearly one year ago—and nothing proposed in the FNPRM alters that basic proposal. We also note that interested parties have already been in the process of commenting and engaging in a meaningful dialogue about these issues in comments filed in response to the AWS-3 NPRM. However, we believe that providing a limited extension equaling 30 days from Federal Register publication of the FNPRM ³ to allow for additional discussion of the proposal in the FNPRM will not unreasonably delay the Commission's adoption of final rules in this proceeding. Accordingly, we grant the Request in part by extending the deadline for all comments to July 25, 2008. In order to provide parties an additional amount of time in which to review and respond to the comments received, we also extend the reply deadline to 15 days from the revised comment deadline, to August 11, 2008.⁴ We also note that, with the issuance of the FNPRM, adoption of final rules in this proceeding would not have occurred in July, 2008.

² 47 CFR 1.46(a).

³ The FNPRM was published in the Federal Register on June 25, 2008. See Service Rules for Advanced Wireless Services in the 1915-1920 MHz, 1995-2000 MHz, 2155-2175 MHz and 2175-2180 MHz Bands, 73 FR 35995, June 25, 2008.

⁴ Because 15 days from the revised comment deadline of July 25 falls on Saturday, August 9, reply comments are due on Monday, August 11, 2008. We note that nothing in today's Order precludes the filing of comments—on some or all issues—prior to the revised deadline date.

5. Pursuant to sections 4(i) and 4(j) of the Communications Act of 1934, as amended, 47 U.S.C. 154(i) and 154(j), and sections 0.131, 0.331, and 1.46 of the Commission's rules, 47 CFR 0.131, 0.331, and 1.46, the deadline for filing comments and reply comments in response to the FNPRM is extended to July 25, 2008, and until August 11, 2008, respectively.

6. Pursuant to sections 4(i) and 4(j) of the Communications Act of 1934, as amended, 47 U.S.C. 154(i) and 154(j), and sections 0.131, 0.331, and 1.46 of the Commission's rules, 47 CFR 0.131, 0.331, and 1.46, the T-Mobile Request for Extension of Time to File Comments is granted to the extent indicated herein and otherwise denied.

Federal Communications Commission.
James D. Schlichting,
Acting Chief, Wireless Telecommunications Bureau.

[FR Doc. E8-16032 Filed 7-11-08; 8:45 am]

BILLING CODE 6712-01-P